DEPARTMENT OF ENERGY

Office of Environmental Management; Environmental Management Site-Specific Advisory Board; Notice of Renewal

Pursuant to Section 14(a)(2)(A) of the Federal Advisory Committee Act (Pub. L. 92-463), and in accordance with title 41 of the Code of Federal Regulations, Section 101-6.1015(a), and following consultation with the Committee Management Secretariat, General Services Administration, notice is hereby given that the Environmental Management Site-Specific Advisory Board has been renewed for a two-year period beginning May 16, 2000.

The purpose of the Board is to provide the Assistant Secretary for Environmental Management with advice and recommendations on environmental management projects and issues such as future use, risk management, transportation, long-term stewardship, and budget prioritization activities, from the perspective of affected groups and State and local government. Board membership will reflect the full diversity of views in the affected community and region and be composed primarily of people who are directly affected by Department of Energy (DOE) site cleanup activities. Members will include potentially affected and interested stakeholders from local government, Indian Tribes, environmental and civic groups, labor organizations, universities, waste management and environmental restoration firms, and other interested parties. Representatives from the DOE, the Environmental Protection Agency, and State governments will be ex-officio members of the Board. Selection and appointment of Board members will be accomplished using procedures designed to ensure diverse membership and a balance of viewpoints. Consensus recommendations to the DOE from the Board on the resolution of numerous and difficult issues will help achieve DOE's objective of an integrated environmental management program.

The Secretary of Energy has determined that renewal of the Environmental Management Site-Specific Advisory Board is necessary in order to conduct DOE's business and is in the public interest. The Board will operate in accordance with the provisions of the Federal Advisory Committee Act, and the rules and regulations issued in the implementation of those acts.

Further information regarding this advisory board may be obtained from Rachel M. Samuel at (202) 586-3279.

Issued in Washington DC on May 16, 2000.
James N. Solit,
Advisory Committee Management Officer.

[FR Doc. 00-12933 Filed 5-22-00; 8:45 am]

BILLING CODE 6450-01-P